DEPARTMENT OF COMMERCE

National Oceanic and Atmospheric Administration

[I.D. 051106A]

Endangered and Threatened Species; Recovery Plans

AGENCY: National Marine Fisheries Service, National Oceanic and Atmospheric Administration, Commerce.

ACTION: Notice of Availability; request for comments.

SUMMARY: The National Marine Fisheries Service (NMFS) announces the availability for public review of the draft revised Recovery Plan (Plan) for the western and eastern distinct population segments (DPS) of Steller sea lion (Eumetopias jubatus). NMFS is soliciting review and comment from the public and all interested parties on the Plan, and will consider all substantive comments received during the review period before submitting the Plan for final approval.

DATES: Comments on the draft Plan must be received by close of business on July 24, 2006.

ADDRESSES: Send comments to Kaja Brix, Assistant Regional Administrator, Protected Resources Division, Alaska Region, NMFS, Attn: Ellen Walsh. Comments may be submitted by: (1) E-mail: SSLRP@noaa.gov. include in the subject line the following document identifier: Sea Lion Recovery Plan. E-mail comments, with or without attachments, are limited to 5 megabytes; (2) Mail: P.O. Box 21668, Juneau, AK 99802; (3) hand delivery to the Federal Building : 709 W. 9th Street, Juneau, AK; or (4) Fax: (907) 586 7012. Interested persons may obtain the Plan for review from the above address or on-line from the NMFS Alaska Region website: http://www.fakr.noaa.gov/.

FOR FURTHER INFORMATION CONTACT: Shane Capron, (907 271 6620), e-mail shane.capron@noaa.gov; or Kaja Brix, (907 586 7235), e-mail kaja.brix@noaa.gov.

SUPPLEMENTARY INFORMATION:

Background

Recovery plans describe actions considered necessary for the conservation and recovery of species listed under the Endangered Species Act of 1973 (ESA), as amended (16 U.S.C. 1531 et seq.). The ESA requires that recovery plans incorporate (1) Objective, measurable criteria that, when met, would result in a determination that the species is no longer threatened or endangered; (2) site-specific management actions necessary to achieve the plan's goals; and (3) estimates of the time required and costs to implement recovery actions. The ESA requires the development of recovery plans for listed species unless such a plan would not promote the recovery of a particular species. NMFS' goal is to restore endangered and threatened Steller sea lion (Eumetopias jubatus) populations to the point where they are again secure, self-sustaining members of their ecosystems and no longer need the protections of the ESA. NMFS will consider all substantive comments and information presented during the public comment period in the course of finalizing this Recovery Plan.

The Steller sea lion was listed as a threatened species under the ESA on April 5, 1990 (55 FR 12645), due to substantial declines in the western portion of the range. In contrast, the eastern portion of the range (in southeastern Alaska and Canada) was increasing at 3 percent per year. Critical habitat was designated on August 27, 1993 (58 FR 45269), based on the location of terrestrial rookery and haulout sites, spatial extent of foraging trips, and availability of prey items. In 1997, the Steller sea lion population was split into a western distinct population segment (DPS) and an eastern DPS based on demographic and genetic dissimilarities (62 FR 30772). Due to the persistent decline, the western DPS was reclassified as endangered, while the increasing eastern DPS remained classified as threatened. Through the 1990s the western DPS continued to decline. However, the western population has shown as increase of approximately 3 percent per year between 2000 and 2004. This was the first recorded increase in the population since the 1970s. Based on recent counts, the western DPS is currently about 44,800 animals and may be increasing due to higher juvenile and adult survival. However, it remains unclear whether Steller sea lion reproduction has also improved and whether the observed 3 percent annual population growth will continue. The eastern DPS is currently between 45,000 and 51,000 animals, and has been increasing at 3 percent per year for 30 years.

The first recovery plan was completed in December 1992 and covered the entire range of the threatened species. However, the recovery plan became obsolete after the split into two DPSs in 1997. Nearly all of the recovery actions contained in the plan had also been completed. NMFS assembled a new recovery team in 2001 to revise the first plan. The recovery team completed the draft revision in March 2006 and forwarded the plan to NMFS with unanimous endorsement by the 17 team members who represented the fishing industry, Alaska Natives, fishery and marine mammal scientists, and environmental organizations.

The Plan contains: (1) A comprehensive review of Steller sea lion ecology, (2) a review of previous conservation actions, (3) a threats assessment, (4) biological and recovery criteria for downlisting and delisting, (4) actions necessary for the recovery of the species (78 discrete actions for the western DPS), and (5) estimates of time and cost to recovery.

The threats assessment concludes that the following threats are relatively minor: (1) Alaska Native subsistence harvest, (2) illegal shooting, (3) entanglement in marine debris, (4) disease, and (5) disturbance from vessel traffic and scientific research. Although much has been learned about Steller sea lions and the North Pacific ecosystem, considerable uncertainty remains about the magnitude and likelihood of the following potential threats (relative impacts in parenthesis): competition with fisheries (potentially high), environmental variability (potentially high), killer whale predation (potentially high), incidental take by fisheries (medium), and toxic substances (medium).

In contrast, no threats were identified for the eastern DPS. Although several factors affecting the western DPS also affect the eastern DPS (e.g., environmental variability, killer whale predation, toxic substances, disturbance), these threats do not appear to be limiting recovery given the long term sustained growth of the population. However, concerns exist regarding global climate change and the potential for the southern part of the range (i.e., California) to be adversely affected. Future monitoring should target this southern portion of the range.

The Plan identifies 78 substantive actions needed to achieve recovery of the western DPS by addressing the broad range of threats. The Plan highlights three actions (detailed below) that are especially important to the recovery program for the western DPS:

1. Maintain current fishery conservation measures: After a long term decline, the western DPS appears to be stabilizing. The first slowing of the decline began in the 1990s suggesting that the management measures implemented in the early 1990s may have been effective in reducing anthropogenic effects (e.g., shooting, harassment, and incidental take). The apparent population stability observed in the last 6 years is correlated with comprehensive fishery management measures implemented since the late 1990s. The current suite of management actions (or their equivalent protection) should be maintained until substantive evidence demonstrates that these measures can be reduced without limiting recovery.

2. Design and implement an adaptive management program to evaluate fishery conservation measures: Due to the uncertainty in how fisheries affect Steller sea lions and their habitat, and the difficulty in extrapolating from individual scientific experiments, a properly designed adaptive management program should be implemented. This type of program has the potential to assess the relative impact of commercial fisheries and to better distinguish the impacts of other threats (including killer whale predation). This program will require a robust experimental design with replication at the proper temporal and spatial scales with the appropriate levels of commercial fishing as experimental treatments. It will be a challenge to construct an adaptive management plan that meets the requirements of the ESA, is statistically sufficient, and can be implemented by the commercial fisheries. Acknowledging these hurdles, a significant effort must be made to determine the feasibility of such a program.

3. Continue population monitoring and research on the key threats potentially impeding sea lion recovery: Estimates of population abundance, trend, distribution, health, and essential habitat characteristics are fundamental to Steller sea lion management and recovery. Further, current information on the primary threats is insufficient to assess their impact on recovery. Focused research is needed on how these threats impact sea lion population growth and how they may be mitigated in order to facilitate recovery. In addition to studies on individual threats, the dynamics between threats needs to be better understood to assess the cumulative effects on sea lions.

Criteria for reclassification of Steller sea lion are included in the Plan. In summary, the western DPS of Steller sea lion may be reclassified from endangered to threatened when all of the following have been met: (1) Counts of non-pups in the U.S. portion of the DPS have increased for 15 years (on average); (2) the population ecology and vital rates in the U.S. region are consistent with the observed trend; (3) the non-pup trends in at least 5 of the 7 sub-regions are consistent with the overall U.S. trend, and the population trend in any two adjacent sub-regions can not be declining significantly; and (4) all five listing factors are addressed.

The western DPS of Steller sea lion may be delisted when all of the following conditions have been met: (1) Counts of non-pups in the U.S. portion of the DPS have increased at an average annual rate of 3 percent for 30 years (i.e., 3 generations); (2) the population ecology and vital rates in the U.S. region are consistent with the observed trend; (3) the non-pup trends in at least 5 of the 7 sub-regions are consistent with the overall U.S. trend; the population trend in any two adjacent sub-regions can not be declining significantly, and the population trend in any single sub-region can not have declined by more than 50 percent; and (4) all five listing factors are addressed.

The eastern DPS of Steller sea lion may be delisted when all of the following have been met: (1) The population has increased at an average rate of 3 percent per year for 30 years (i.e., 3 generations); (2) the population ecology and vital rates are consistent with the observed trend; and (4) all five listing factors are addressed.

Time and cost for recovery actions are contained in the Plan. The recovery program for the western DPS will cost $93,840,000 for the first 5 fiscal years and $430,425,000 to full recovery assuming 30 years for recovery starting in 2000, and using year 5 costs as the cost for all future years. The recovery program for the eastern DPS will cost $150,000 for the first year and $1,050,000 total for 10 years of post-delisting monitoring.

In accordance with the 1994 peer review policy, NMFS solicited peer review on the draft Plan. Reviews were requested from 5 scientists and managers with expertise in recovery planning, statistical analyses, fisheries, and marine mammals. The reviews of the Plan were generally favorable. In particular, the reviewers found the recovery criteria to be well reasoned and supported. In response to reviewer's comments, changes were made to the plan to clarify the recovery criteria, add delisting criteria for the western DPS, and focus priorities and actions. NMFS anticipates that many of the recommendations made by the reviewers will be addressed in an implementation and research plan which NMFS intends to develop after the Plan is finalized. Reviewers' comments and NMFS' formal response to the comments will be provided in detail in the final recovery plan.

Public Comments Solicited

NMFS solicits written comments on the draft Revised Recovery Plan. All substantive comments received by the date specified above will be considered prior to final approval of the Plan. NMFS seeks comments particularly in the following areas: (1) The threats assessment; (2) the biological and threats criteria for removing the Steller sea lion from the Federal list of Endangered and Threatened Wildlife and Plants; (3) the recovery strategy and measures; and (4) estimates of time and cost to implement recovery actions.

Authority

The authority for this action is section 4(f) of the Endangered Species Act (16 U.S.C. 1531 et seq.).

Dated: May 18, 2006.
Angela Somma,
Chief, Endangered Species Division, Office of Protected Resources, National Marine Fisheries Service.

[FR Doc. E6-7969 Filed 5-23-06; 8:45 am]

BILLING CODE 3510-22-S